DEPARTMENT OF COMMERCE

Foreign-Trade Zones Board

[Order No. 1970]

Reorganization of Foreign-Trade Zone 23 Under Alternative Site Framework Buffalo, New York

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the County of Erie, grantee of Foreign-Trade Zone 23, submitted an application to the Board (FTZ Docket B-82-2014, docketed 11-13-2014) for authority to reorganize under the ASF with a service area of Erie County, New York, in and adjacent to the Buffalo Customs and Border Protection port of entry, FTZ 23's existing Site 1 would be categorized as a magnet site, existing Sites 5, 6, 9, 10 and 11 would be categorized as usage-driven sites, and existing Sites 2, 3, 7 and 8 would be removed from the zone;

Whereas, notice inviting public comment was given in the Federal Register (79 FR 68854, 11-19-2014) and the application has been processed pursuant to the FTZ Act and the Board's regulations; and,

Whereas, the Board adopts the findings and recommendations of the examiner's report, and finds that the requirements of the FTZ Act and the Board's regulations are satisfied;

Now, therefore, the Board hereby orders:

The application to reorganize FTZ 23 under the ASF is approved, subject to the FTZ Act and the Board's regulations, including Section 400.13, to the Board's standard 2,000-acre activation limit for the zone, and to an ASF sunset provision for usage-driven sites that would terminate authority for Sites 5, 6, 9, 10 and 11 if no foreign-status merchandise is admitted for a bona fide customs purpose within three years from the month of approval.

Signed at Washington, DC, this 3rd day of April 2015.
Paul Piquado,
Assistant Secretary of Commerce for Enforcement and Compliance, Alternate Chairman, Foreign-Trade Zones Board.

[FR Doc. 2015-08330 Filed 4-9-15; 8:45 am]

BILLING CODE 3510-DS-P